DEPARTMENT OF ENERGY

Federal Energy Regulatory Commission

[Docket No. ER00-3038-000]

New York Independent System Operator, Inc.; Notice of Filing

July 3, 2000.

Take notice that on June 30, 2000, the New York Independent System Operator, Inc., acting at the direction of its independent Board of Directors (NYISO Board) and pursuant to its “exigent circumstances” authority, unilaterally filed proposed tariff amendments that would implement temporary bid caps in certain NYISO-administered markets.

The NYISO Board requested that the proposed temporary bid caps become effective on July 6, 2000, and expire no later than October 28, 2000.

A copy of this filing was served upon all parties in Docket Nos. ER97-1523-000, OA97-470-000 and ER97-4324-000, not consolidated, all parties in Docket No. EL00-70-000, and on all other parties who have executed Service Agreements under the NYISO's Open Access Transmission Tariff or Market Administration and Control Area Services Tariff.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before July 10, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-17321 Filed 7-6-00; 8:45 am]

BILLING CODE 6717-01-P